DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending December 31, 1999.

ARMAJANI, JANET NURENE

ARPELS, MARIE THERESE, LOUISE

BELSER, LAWRENCE WALTER

BELSER, MARY JEAN

BERNARD, MARY CLAUDE

BOROSHOK, IRINA

BOROSHOK, ALEX

BOWLES-O'CONNELL DE GASPE BEAUBIEN, NAN

BROWN, RICHARD N.

BUMSTEAD, ERIC L.

CASTRO, YVONNE MARIE

CHEUNG, YUN KUL

DE BUEIL, MARIE LAURE-SYBIL-MICHELE

DE SPOELBERCH, ERIC JACQUES

DE YOUNG, NINA

DOYLE, WILLIAM HENRY

FAULKNER, SHERYL ANN

FELSTINER, BARBARA JANE

FLEISCHAUER, MARTHA

FONG, DAVID MAN-HUNG

FRANKLIN, JOHN JOSEPH

FRANS, SUSAN ELLEN

FRIVALDO, JUAN GALLANOSA

FUSS, ALBERT

GAUM, KURT RUDOLF

GAUM-LANGEMANN, ROSA

GROSKING, YAEL REBECCA

HAUGHEY, STEPHEN EDWARD

HULTGRENF, RICHARD WESLEY

JEFFERIS, JENNIFER

JEFFERIS, JOHN

JENSEN, ALAN DALE

JEONG LEE, JAMES JAE

JOSPE, ROGER

JOSPE, CECIL

KALMAR, ERIK LESLIE

KIM, GRACE YOUNG

KIM, SUNG HEE

LABINE, GILE EMMANUEL

LEE, HYO SOP

LEE, CHONG REA

LIEM, JACQUELINE MICHELLE

LIVINGSTON JR., EDMUND PENDLETON

LOUDERMILK, JAN ERNEST

LUNT, MICHAEL CHARLES

MINOR, AIKO ISHII

MIYAMOTO, SHINGO

MOLLER, MAREN

MOSS, VERONICA INEZ

NOBLE, BUTLER

PARK, THOMAS

PARK, JONGSOO

PAYNE, ERIC FRANCIS

POSS, CHRISTINE CHERYL

RICHTER, SHERYL NANCY

RUTHLEDGE, KI SON CHO

SAGIE, ISAAC

SANDERS-GUNN, KATHERLEEN

SHAVER, HELEN

SHEPARD, CHIN HUI

SHERMAN, JOAN ELLEN

SHERMAN, JACKIE ROBERT

SHINN, HENRY JOO

SHORT IV, ELLIS

SJOGREN, BERTIL E.

SOMERVILLE, SUSAN

SPITS, HILLEGONDA CATHERINE-LOUISE

SUNDAHL, ANN INGRID

TAKSHASHI, YOKOF ANNE

TASHIRO, YASUHISA

THOMPSON, BUDD

TOWER, SHAWN JENNIFER

UNGER, LUCINDA JO

VENTURA (GRACE U YI), GRACE MEYOUNG

VON BUSKIRK, CARL

WASHINGTON, PHILLIP BRENT

WEINGARTEN, MICHAEL SHELDON

WRIGHT, PAMELA JOAN

YE, LEE KWI

ZAKUS, PAUL D.

ZAKUS, MARGUERITE D.

Approved: January 18, 2000.
Doug Rogers,
Chief, Special Projects & Support Branch, International District.

[FR Doc. 00-2155 Filed 2-1-00; 8:45 am]

BILLING CODE 4830-01-U